FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), pursuant to 5 CFR 1320.16, to approve of and assign OMB control numbers to collection of information requests and requirements conducted or sponsored by the Board under conditions set forth in 5 CFR 1320 Appendix A.1. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

DATES: Comments must be submitted on or before November 18, 2014.

ADDRESSES: You may submit comments, identified by FR 3063a or b (government-administered, general-use prepaid cards); by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room MP-500 of the Board's Martin Building (20th and C Streets NW.) between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Acting Clearance Officer—John Schmidt—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal to approve under OMB delegated authority the extension for three years of the following information collection, with revision:

Report title: Government-administered, General-use Prepaid Card Surveys.¹

¹ The issuer and government surveys, supporting statement, and other documentation are available on the Board's public Web site at: http://www.federalreserve.gov/apps/reportforms/review.aspx.

Agency form number: FR 3063a and FR 3063b.

OMB control number: 7100-0343.

Frequency: Annual.

Reporters: Issuers of government-administered, general-use prepaid cards (FR 3063a) and governments that administer general-use prepaid card programs (FR 3063b).

Estimated annual reporting hours: FR 3063a: 375 hours; FR 3063b: 2,700 hours.

Estimated average hours per response: FR 3063a: 25 hours; FR 3063b: 15 hours.

Number of respondents: FR 3063a: 15; FR 3063b: 180.

General description of report: This information collection is authorized by subsection 920(a) of the Electronic Fund Transfer Act (EFTA), which was amended by section 1075(a) of the Dodd-Frank Act. 15 U.S.C. § 1693o-2. EFTA Section 920(a) requires the Board to submit an annual report to the Congress on the prevalence of the use of general-use prepaid cards in Federal, State, or local government-administered payment programs and on the interchange transaction fees and cardholder fees charged with respect to the use of such general-use prepaid cards. 15 U.S.C. 1693o-2(a)(7)(D). EFTA Section 920(a) also provides the Board with authority to require issuers to provide information to enable the Board to carry out the provisions of the subsection. 15 U.S.C. 1693o-2(a)(3)(B). The obligation of issuers to respond to the issuer survey (FR 3063a) is mandatory. However, the obligation of state and local governments to respond to the government survey (FR 3063b) is voluntary. A limited amount of information collected on the FR 3063a issuer survey is publicly available, and thus, is not accorded confidential treatment. However, most of the information collected on the FR 3063a issuer survey is not publicly available and may be kept confidential as explained herein. Data collected by the issuer survey may be kept confidential under exemption (b)(4) of the Freedom of Information Act (FOIA), which exempts from disclosure “trade secrets and commercial or financial information obtained from a person and privileged or confidential.” 5 U.S.C. 552(b)(4). Such data may be kept confidential under exemption 4 if the release of data would cause substantial harm to the competitive position of the issuer. For example, certain issuer survey responses would likely contain information related to an organization's revenue structure and other proprietary and commercial information and the release of such information would cause substantial harm to the competitive position of the issuer and could therefore be kept confidential under exemption 4. The information collected on the government survey (FR 3063b) is not accorded confidential treatment.

Abstract: Section 1075(a) of the Dodd-Frank Act provides that the Board shall provide annually a report to the Congress regarding the prevalence of the use of general-use prepaid cards in federal, state, and local government-administered payment programs, and the interchange and cardholder fees charged with respect to the use of such prepaid cards.² Section 1075(a) of the Dodd-Frank Act also provides the Board with authority to require card issuers to respond to information requests as may be necessary to carry out the provisions of the section.

² 15 U.S.C. 1693o-2(a)(7)(D).

Current Actions: The Board proposes to revise the issuer survey (FR 3063a) to collect data on the number of government programs broken out by category of disbursement program; net funds loaded onto prepaid cards broken out by gross funds loaded and funds voided or returned to government offices, as well as by funds loaded pursuant to government-administered programs and funds loaded from other sources; the average daily value of funds outstanding; the value and volume of ATM withdrawals broken out by proprietary (in-network) ATMs and nonproprietary (out-of-network) ATMs; the amount reimbursed cardholders for fees they incurred at nonproprietary ATMs; the value/volume of over-the-counter at-bank (teller) withdrawals as well as fees assessed to cardholders by third party banks for these withdrawals; the value of settled purchase transactions and interchange fee revenue broken out by transactions that are exempt and not exempt from the interchange fee standards of Regulation II; and sources of revenue collected by issuers other than interchange and cardholder fees. The Board also proposes to combine current sections II and III as well as current sections XIII and IX. In addition, the Board proposes that issuers not be required to complete a separate survey for each program. Rather, issuers would be required to complete one survey for federal programs in aggregate and one survey for state/local programs in aggregate.

The Board proposes to revise the government survey (FR 3063b) to collect data on the number of government programs reported in the survey. In addition, the Board proposes to requests public comment on the potential effects of repealing the FR 3063b survey.

Lastly, the Board proposes to make several clarifications to both surveys and to delete questions that are no longer relevant from both surveys.

Issuer Survey (FR 3063a)

The issuer survey is required for depository institutions that issue general-use prepaid cards for federal, state, or local government-administered payment programs. The survey requests information on cards associated with accounts domiciled in the United States, the District of Columbia, and U.S. territories.

The current survey (last administered in early 2014) collects information separately for each government-administered payment program for which the depository institution is the issuer of general-use prepaid cards. The current survey collects information on card programs using two types of authentication mechanisms: Dual-message transactions and single-message transactions.³ The cards issued pursuant to government-administered payment programs may be either reloadable or non-reloadable.

³ In dual-message transactions, authorization information is carried in one message and clearing information is carried in a separate message (typically, these transactions are authenticated with a signature). In single-message transactions, authorization and clearing information is carried in one message (typically, these transactions are authenticated with a PIN). General-use prepaid card transactions may use either method (although dual-message transactions are more common).

The current issuer survey comprises nine sections:

I. Government-Administered, General-Use Prepaid Card Program Information: Respondents report summary information on card programs covered in the response including the name of the program(s), whether the response covers federal or state/local programs, the geographic areas where cards have been issued, the name of the sponsoring government agency, the type of payment program, and the number of recipients receiving payments on prepaid cards.

II. Government-Administered Payment Cards: Respondents report summary information on the number of cards outstanding and the allocation of cards outstanding between cards that can be used on both dual-message and single-message networks, cards that can be used exclusively on dual-message networks, and cards that can be used on exclusively single-message networks. Respondents also report the number of cards that can be used on two or more unaffiliated networks.

III. Funding: Respondents report the value of funds loaded into prepaid card accounts and funds outstanding on prepaid card accounts.

IV. ATM Transactions: Respondents report summary information on the number of cards outstanding at year-end that can be used to make ATM cash withdrawals, the volume and value of ATM cash withdrawals, and the ATM fees assessed to cardholders by ATM operators of nonproprietary (out-of-network) ATMs.

V. Purchase Transactions: Respondents report summary information on the volume and value of settled purchase transactions and the allocation of the volume and value of settled purchase transactions between single-message transactions and dual-message transactions.

VI. Fees Paid by Issuers: Respondents report the fees paid by issuers to third parties for ATM cash withdrawals and over-the-counter (OTC) at-bank (teller) cash withdrawals.

VII. Issuer Revenue: Interchange Fees: Respondents report interchange fee revenue received on settled purchase transactions and the allocation of interchange fee revenue received on dual-message transactions and single-message transactions.

VIII. Issuer Revenue: Cardholder Fees: Respondents report total revenue received on all fees assessed to cardholders and the allocation revenue received from cardholder fees between purchase transaction fees, ATM fees, OTC fees, account servicing fees, routine monthly fees, customer service inquiry fees, penalty fees, overdraft fees, and all other cardholder fees.

IX. Fees Assessed to Cardholders: Respondents provide summary information on fees assessed to cardholders, including purchase transaction fees, ATM fees, OTC fees, account servicing fees, routine monthly fees, customer service inquiry fees, penalty fees, overdraft fees and all other cardholder fees.

Proposed Revisions to Issuer Survey (FR 3063a)

The Board proposes to modify the survey reporting structure to reduce burden on respondents. Currently, a respondent is required to complete the survey for each individual government-administered payment program for which the respondent is the prepaid card issuer. The Board has modified the survey instrument so that issuers will be required to complete the survey only twice: Once for all federal programs (in aggregate) and once for all state/local programs (in aggregate). The Board believes that the proposed structure will reduce reporting burden without significantly compromising the value of the data collected. In addition, the Board proposes to streamline the survey by combining relevant questions in current sections II and III and combining relevant questions in current sections XIII and IX. A section-by-section description of the changes is provided below.

Section I: Program Information (Renamed From “Government-Administered, General-Use Prepaid Card Program Information”)

Questions 1 and 2 (revised survey): Number of government-administered payment program(s) covered in this response. The Board proposes to add question 1 (to the revised survey) to obtain an accurate count of the government-administered payment programs on which issuers will report. The Board also proposes to add question 2 (to the revised survey) which requests a breakout of the number of programs between program categories (such as child support, payroll, and so on). This breakout replaces question 5 (of the current survey) which asks issuers to indicate (via a check box) categories on an individual program basis. Questions 1 and 2 (of the revised survey) support the Board's proposed revision to the reporting structure which would allow issuers to provide aggregate responses for their programs.

Question 2 (current survey): Does this response cover a federal or a state/local program(s)? The Board proposes to delete question 2 (of the current survey). Under the proposed revision to the reporting structure, respondents would complete the survey once for federal programs and once for state/local programs.

Question 3 (current survey): Jurisdiction(s)—Geographic area in which the government-administered, general-use prepaid cards have been issued.

The Board proposes to delete question 3 (of the current survey). The Board believes that the information captured in this question is no longer necessary to support the Board's annual report.

Question 3 (revised survey): Name of program and sponsoring government agency. The Board proposes to combine question 1 (of the current survey) which asks for the name of the government-administered payment program and question 4 (of the current survey) which requests the name of the sponsoring government agency (the agency administering a government-administered payment program). The combined question 3 (of the proposed survey) provides a grid of input boxes so that a respondent can enter information separately for each government program included in a response. This new format supports the Board's proposed revision to the reporting structure which would allow issuers to provide aggregate responses for their programs.

Question 6 (current survey): Recipients receiving payments on government-administered, general-use prepaid cards. The Board proposes to delete question 6 (of the current survey). A cardholder may receive payments on behalf of multiple individuals. As a result, an issuing bank is sometimes unable to provide an accurate count of all individuals receiving payments.

Section II: Government-Administered Payment Cards (Current Survey)—(Deleted)

The Board proposes to delete section II (of the current survey), which captures the number of prepaid cards outstanding, and a breakout of this number between cards that can be used on single-message networks, dual-message networks, and two or more unaffiliated networks. The question requesting the total number of cards outstanding will be moved to the section of the revised survey titled “Card Funding.” The remaining questions in section II (of the current survey), which focus on the network functionality of the cards outstanding, will be deleted.

In previous reports to the Congress on government-administered, general-use prepaid cards, the Board reported on interchange fee statistics broken out by single-message and dual-message transactions. Interchange fee statistics for the broader population of general-use prepaid cards by network type are published in the Board's other reports on covered debit card issuers and payment card networks. Because interchange fees by network type do not vary substantially between government-administered, general-use prepaid cards and the broader population of exempt general-use prepaid cards, the Board believes that it is no longer necessary to collect network-related information in this survey.

Section II: Card Funding (Renumbered From “Section III” and Renamed From “Funding”)

Question 1 (revised survey): Government-administered, general-use prepaid cards outstanding. As discussed above, the Board proposes to move this question from the deleted section titled “Government-Administered Payment Cards”.

Questions 2 and 3 (revised survey): Net funds loaded onto government-administered, general-use prepaid cards. Question 1 (of the current survey) asks for the funds loaded onto government-administered, general-use prepaid cards. The Board is aware that program funds initially made available to a cardholder may subsequently be removed from the cardholder's account; specifically, funds may be voided or returned to the government agency or other funding entity. Funds may be removed from an account due to unused balances after a specified period of time, long-term account inactivity, or some other reason (unrelated to fees). The Board proposes to clarify the current question on funding by asking for the net funds loaded onto cards (excluding funds voided or returned) in question 2 (of the revised survey) and for a breakout of net funds loaded onto cards between gross funds loaded and funds voided or returned in question 3 (of the revised survey). In addition to increasing survey clarity, this breakout would allow the Board to calculate additional prevalence-of-use metrics.

Question 4 (revised survey): Net funds loaded by funding source. The Board proposes to add question 4 (to the revised survey), which requests a breakout of the net funds loaded onto government-administered, general-use prepaid cards between funds loaded pursuant to various categories of government-administered payment programs and funds loaded from other sources. Collecting funding information by program category type supports the Board's proposed revision to the reporting structure which would allow issuers to provide aggregate responses for their programs. Further, for a covered issuer to receive the exemption from the interchange fee standards of Regulation II with respect to cards issued under a government-administered payment program, cardholders may use their cards only to transfer or debit funds, monetary value, or other assets that have been provided pursuant to the program. Question 4 (of the revised survey) would allow the Board to better understand whether (and if so, the extent to which) issuers fulfill this requirement to receive the exemption.

Question 6 (revised survey): Average daily value of funds outstanding. The Board proposes to add question 6 (to the revised survey) to capture average daily balances on government-administered general-use prepaid cards. Question 6 will allow the Board to calculate additional prevalence-of-use metrics.

Section III: Cash Withdrawals (Renumbered From “Section IV” Renamed From “ATM Transactions”)

Questions 1: (current survey): Government-administered, general-use prepaid cards outstanding that can be used to make ATM cash withdrawals. The Board proposes to delete question 1 (of the current survey) because it is no longer needed for the annual report.

Question 2 (revised survey): Total ATM cash withdrawals. The Board proposes to add question 2 (to the revised survey) to obtain a breakout of the total ATM cash withdrawal volume and value between withdrawals at proprietary (in-network) and nonproprietary (out-of-network) ATMs. This breakout would allow the Board to calculate new prevalence-of-use metrics related to ATM transactions and to calculate ATM-fee metrics more precisely.

Question 3a (revised survey): ATM fees reimbursed to cardholders. The Board proposes to add question 3a (to the revised survey) to capture the value of reimbursements made to cardholders by issuers for ATM fees assessed by ATM operators of nonproprietary (out-of-network) ATMs for cash withdrawals. Question 3a would allow the Board to estimate cardholder fee metrics more precisely.

Questions 4-6 (revised survey): Over-the-counter at-bank (teller) cash withdrawals. The Board proposes to add questions 4-6 (to the revised survey) to capture information related to over-the-counter at-bank (teller) cash withdrawals. These questions mirror questions 1-3 (of the revised survey) on ATM withdrawals. Information on over-the-counter cash withdrawals would allow the Board to calculate additional prevalence of use metrics and estimate fee metrics more precisely.

Section IV: Purchase Transactions (Renumbered From “Section V”)

Question 1 (revised survey): Settled purchase transactions. The Board proposes to specify that cash back amounts should be included in the value of settled purchase transactions. The Board also proposes to add question 1a.1 (to the revised survey) to request a breakout of the value of transactions that included cash back between the purchase value and cash-back value. The Board believes the new language and additional question will enhance survey clarity. Further, the breakout of the purchase and cash-back amounts will allow the Board to calculate additional prevalence-of-use metrics.

Question 2 (current survey): Settled purchase transactions by network type. The Board proposes to delete question 2 (of the current survey) which asks for a breakout of total settled purchase transactions (volume and value) between single-message transactions and dual-message transactions. As discussed above in the paragraph titled “Section II: Government-Administered Payment Cards (current survey),” the Board believes that it is no longer necessary to collect network-related information in this survey.

Question 2 (revised survey): Exempt vs. non-exempt transactions. The Board proposes to add question 2 (to the revised survey) to break out total settled purchase transactions (volume and value) between transactions that are exempt and not exempt from the interchange fee standards of Regulation II.

An electronic debit transaction made using a general-use prepaid card that has been provided pursuant to a government-administered payment program is exempt from the interchange fee standards for a given calendar year if one of the following two conditions applies:

(1) The issuer, along with its affiliates worldwide, has assets that are less than $10 billion, as of December 31 of the prior calendar year.

(2) The issuer, along with its affiliates worldwide, has assets that are greater than or equal to $10 billion, as of December 31 of the prior calendar year, and all of the following conditions apply:

• The cardholder may use the debit card only to transfer or debit funds, monetary value, or other assets that have been provided pursuant to a government-administered payment program;

• The issuer does not charge a fee for overdrafts, including a shortage of funds or a transaction processed for an amount exceeding the account balance, unless the fee or charge is imposed for transferring funds from another asset account to cover a shortfall in the account accessed by the card; and

• The issuer does not charge a fee for the first withdrawal per calendar month from an ATM that is part of the issuer's designated ATM network.

The breakout in question 2 (of the revised survey) would allow the Board to better understand whether (and if so, the extent to which) issuers choose to receive the exemption with respect to their government-administered, general-use prepaid card programs, and further, would allow the Board to calculate interchange fee metrics for both exempt and non-exempt transactions.

Section V: Fees Paid by Issuers (Renumbered From “Section VI”)

There are no proposed changes to the questions in this section.

Section VI: Issuer Revenue: Interchange Fees (Renumbered From “Section VII”)

Question 2 (current survey): Interchange fee revenue by network type. The Board proposes to delete question 2 (of the current survey) which asks for the breakout of total interchange fee revenue between revenue received from single-message transactions and dual-message transactions. As discussed above in the paragraph titled “Section II: Government-Administered Payment Cards (current survey)”, the Board believes that it is no longer necessary to collect network-related information in this survey.

Question 2 (revised survey): Exempt vs. non-exempt transactions. The Board proposes to add question 2 (to the revised survey) to break out the total interchange fee revenue between interchange fee revenue from transactions that are exempt and those that are not exempt from the interchange fee standards of Regulation II. This breakout would allow the Board to better understand whether (and if so, the extent to which) issuers receive the exemption from the interchange fee standards of Regulation II with respect to their government-administered prepaid card programs, and, further, would allow the Board to calculate interchange-fee metrics for both exempt and non-exempt transactions.

Section VII: Issuer Revenue: Cardholder Fees (Renumbered From “Section VIII”)

The Board proposes to combine relevant questions related to cardholder fee revenue in sections XIII and IX (of the current survey) to streamline the survey and reduce reporting burden. The current section IX, which contains detailed questions on each type of cardholder fee, would be eliminated, significantly reducing the number of questions in the survey.

Questions 1 and 2 (revised survey): All fees assessed to cardholders. Questions 1 and 2 (of the current survey) ask for the total revenue received from certain types of cardholder fees. The Board proposes to add a column of numerical boxes to request the number of times each type of fee was assessed, a column of numerical boxes to request the number of programs in which each type of fee is subject to government-imposed restrictions, and a column of text boxes to request a description of government-imposed restrictions on fees. These additional questions appear in section IX (of the current survey) titled “Fees Assessed to Cardholders”, which, as discussed below, the Board is also proposing to eliminate. In addition to reducing reporting burden, the Board believes that combining the questions related to cardholder fee revenue with those requesting the number of times fees were assessed will increase survey clarity and the quality of submitted responses. Further, the numerical box intended to collect the number of programs in which each type of fee is subject to government-imposed restrictions allows issuers to report aggregate information on government imposed restrictions (in contrast to the `yes/no' question format in the current survey). Therefore, this new question format supports the Board's proposed revision to the reporting structure which would allow issuers to provide aggregate responses for their programs.

Section XIII (Revised Survey): Issuer Revenue: Other (New Section)

The Board proposes to create a new section titled “Issuer Revenue: Other”, with four questions to capture revenue received by issuers that are not captured by the current survey:

Question 1 (revised survey): Total revenue received from fees assessed to government office(s).

Question 2 (revised survey): Total value of incentive payments received from payment card networks. Incentive payments are payments received by an issuer from a payment card network with respect to debit card transactions or debit-card-related activity. Issuer incentives may be based on reaching specified volume levels, promoting the network's brand through marketing activities, converting the issuer's debit card base to a different signature network, or undertaking other activities. Incentive payments do not include payments from a network to an issuer for traditional banking services the issuer provides the network (for example, transaction account services to the network).

Question 3 (revised survey): Total revenue received from all other sources.

This new section will provide the Board with a more complete picture of the types of revenue received by issuers of government-administered, general-use prepaid cards.

Section IX: Fees Assessed to Cardholders (Current Survey)—(Deleted)

The Board proposes to eliminate section IX (of the current survey) to reduce reporting burden. As discussed above under the heading “Section VII: Issuer Revenue: Cardholder Fees”, the Board proposes to combine specific questions in sections XIII and IX (of the current survey). Those questions in section IX (of the current survey) that were not combined with section XIII (of the current survey) would be eliminated. The Board believes that the information captured in the deleted questions are no longer relevant for the report process.

Government Survey (3063b)

The government survey is voluntary and is sent to state and local government offices to submit information about the prevalence of use of general-use prepaid cards in federal, state, and local government-administered payment programs. The current government survey (last administered in early 2014) comprises three sections:

1. Government-Administered, General-Use Prepaid Card Program Information: Respondents report summary information on the government-administered payment program(s) covered in the response, whether the response covers federal or state/local programs, sponsoring government agency/agencies, card-issuing bank(s), the type of payment program(s), the number of recipients receiving payments (by any payment method), and the number of recipients receiving payments by prepaid cards.

2. Cards: Respondents report the number of cards outstanding at year-end.

3. Funding: Respondents report the value of funds loaded into prepaid card accounts and the value of all funds paid (by all payment methods).

Proposed Revisions to Government Survey (FR 3063b)

Section I: Government-Administered, General-Use Prepaid Card Program Information

Question 1a (revised survey): Number of government-administered payment program(s) covered in this response. The Board proposes to add question 1a (to the revised survey) to obtain a more accurate count of the programs government offices are reporting on.

Question 2 (revised survey): Sponsoring government agency. The Board proposes to combine question 4 (of the current survey) which requests the name of the sponsoring agency (the agency administering a government-administered payment program) and question 2 (of the current survey) which asks whether the response covers a state/local or federal program. The combined question 2 (of the revised survey) would ask for the name of the sponsoring agency and whether the sponsoring agency's jurisdiction is state/local or federal. The Board believes that combining the two questions will improve survey clarity and the quality of submitted responses.

Section II: Number of Cards (Renamed From “Government-Administered Payment Cards”)

There are no proposed changes to the questions in this section.

Section III: Funds Disbursed to Payment Recipients (Renamed From “Funding”)

Questions 1 and 2: The Board proposes to reorder and modify questions 1 and 2. Respondents would first report total funds disbursed in question 1 (of the revised survey) and break that figure out between funds disbursed by prepaid cards and funds disbursed by all other payment methods in question 2 (of the revised survey). The Board expects that this breakout will improve question clarity and the quality of submitted responses.

Additional Request for Comment Regarding the Government Survey

The Board requests specific comment regarding the potential impact of eliminating the government survey (FR 3063b). The Board currently uses the responses provided by government agencies to calculate and report prevalence-of-use metrics; specifically, the government data allow the Board to report the ratio of funds disbursed by prepaid cards to funds disbursed by all payment methods (check, ACH, payment cards, etc.) across different types of government-administered payment programs. Should the Board decide to eliminate the government survey, it would rely on data from the issuer survey (FR 3063a) to report on prevalence of use. Because issuers of government-administered prepaid cards are unable to report on the value of government-agency disbursements made by payment methods other than prepaid cards, the Board would not report the ratio of funds disbursed by prepaid card to funds disbursed by all payment methods. However, the Board would report alternative prevalence-of-use metrics, including the value of funds loaded onto government-administered prepaid cards, the volume and value of settled purchase transactions, and the volume and value of ATM withdrawals.

The Board believes that eliminating the government survey would significantly reduce reporting burden on the public. At the same time, however, this change could increase burden on the public in other respects, because some members of the public may rely on the prevalence-of-use ratio currently reported by the Board. The Board requests specific comment on whether the potential benefits of eliminating the government survey outweigh the potential costs.

The Board also requests specific comment regarding the existence of reputable reports or other data sources that would allow the Board to continue to calculate the ratio of the value funds disbursed by prepaid card to funds disbursed by all payment methods. As discussed above, the Board currently collects prepaid card funding information with the issuer survey. The Board is interested in finding reputable data sources containing the value of funds disbursed by all payment methods at the program category level. For example, the Board has identified potential data sources for four categories:

1. Unemployment insurance programs—the United States Department of Labor publishes total unemployment insurance outlays under the Unemployment Insurance Chartbook.

2. Supplemental Nutrition Assistance Program (SNAP)—the United States Department of Agriculture publishes total outlays under the SNAP program on its data Web site.

3. Payroll programs—the United States Census Bureau publishes payroll estimates for federal, state, and local governments based on its Annual Survey of Public Employment and Payroll.

4. Temporary Assistance for Needy Families (TANF) programs—The U.S. Department of Health and Human Services publishes annual TANF expenditures on its data Web site.

The Board requests specific comment on whether additional sources of expenditure data at the program category level exist.

The proposed revisions to both surveys would be effective for the collection during the first half of 2015 of calendar year 2014 data.

Board of Governors of the Federal Reserve System, September 16, 2014.
Robert deV. Frierson,
Secretary of the Board.

[FR Doc. 2014-22357 Filed 9-18-14; 8:45 am]

BILLING CODE 6210-01-P